NUCLEAR REGULATORY COMMISSION

[NRC-2009-0350]

Withdrawal of Regulatory Guide

AGENCY: Nuclear Regulatory Commission.

ACTION: Withdrawal of Regulatory Guide 1.16, “Reporting of Operating Information—Appendix A Technical Specifications.”

FOR FURTHER INFORMATION CONTACT: Carl S. Schulten, U.S. Nuclear Regulatory Commission, Washington, DC 20555-0001, telephone: 301-415-1192 or e-mail Carl.Schulten@nrc.gov.

SUPPLEMENTARY INFORMATION:

I. Introduction

The Nuclear Regulatory Commission (NRC) is withdrawing Regulatory Guide (RG) 1.16, “Reporting of Operating Information—Appendix A Technical Specifications.” Revision 4 of the Regulatory Guide was issued for comment in August 1975 and never finalized. The guide provides a description of each of the periodic reports licensees are required to submit to demonstrate compliance with the reporting requirements listed in Appendix A, “Technical Specifications Related to Health and Safety” of the license.

Regulatory Guide 1.16 is being withdrawn because it is no longer needed. Technical specification reporting requirements for licensees are contained in Title 10 of the Code of Federal Regulations, Part 50, “Domestic Licensing of Production and Utilization Facilities” (10 CFR Part 50) as well as other parts of 10 CFR Chapter I, “Nuclear Regulatory Commission.” Guidance on the content and frequency of required reports is contained in Chapter 5, “Administrative Controls,” of the standard technical specifications in the following NUREGs:

• NUREG-1430, Volume 1, “Standard Technical Specifications, Babcock and Wilcox Plants,”

• NUREG-1431, Volume 1, “Standard Technical Specifications, Westinghouse Plants,”

• NUREG-1432, Volume 1, “Standard Technical Specifications, Combustion Engineering Plants,”

• NUREG-1433, Volume 1, Standard Technical Specifications, General Electric Plants, BWR/4,” and

• NUREG-1434, Volume 1, Standard Technical Specifications, General Electric Plants, BWR/6.”

II. Further Information

Withdrawal of RG 1.16 does not, in and of itself, alter any prior or existing licensing commitments based on its use. The guidance provided in this RG is no longer necessary. Regulatory Guides may be withdrawn when their guidance is superseded by Congressional action, the methods or techniques described in the Regulatory Guide no longer describe a preferred approach, or the Regulatory Guide does not provide useful information.

Regulatory guides are available for inspection or downloading through the NRC's public Web site under “Regulatory Guides” in the NRC's Electronic Reading Room at http://www.nrc.gov/reading-rm/doc-collections. Regulatory guides are also available for inspection at the NRC's Public Document Room (PDR), Room O-1 F21, One White Flint North, 11555 Rockville Pike, Rockville, MD 20852-2738. The PDR's mailing address is US NRC PDR, Washington, DC 20555-0001. You can reach the staff by telephone at 301-415-4737 or 800-397-4209, by fax at 301-415-3548, and by e-mail to pdr.resource@nrc.gov.

Regulatory guides are not copyrighted, and NRC approval is not required to reproduce them.

Dated at Rockville, Maryland, this 4th day of August, 2009.
For the Nuclear Regulatory Commission.
John N. Ridgely,
Acting Chief, Regulatory Guide Development Branch, Division of Engineering, Office of Nuclear Regulatory Research.

[FR Doc. E9-19211 Filed 8-10-09; 8:45 am]

BILLING CODE 7590-01-P